DEPARTMENT OF AGRICULTURE

Forest Service

Lake County Resource Advisory Committee

AGENCY: Forest Service, USDA.

ACTION: Notice of meeting.

SUMMARY: The Lake County Resource Advisory Committee (RAC) will hold a meeting.

DATES: The meeting will be held on October 14, 2004, from 3:30 p.m. to 5:30 p.m.

ADDRESSES: The meeting will be held at the Lake County Board of Supervisor's Chambers at 255 North Forbes Street, Lakeport.

FOR FURTHER INFORMATION CONTACT: Debbie McIntosh, Committee Coordinator, USDA, Mendocino National Forest, Upper Lake Ranger District, 10025 Elk Mountain Road, Upper Lake, CA 95485. (707) 275-2361; e-mail dmcintosh@fs.fed.us.

SUPPLEMENTARY INFORMATION: Agenda items to be covered include: (1) Review and approval of the minutes of the August 26, 2004 meeting; (2) Discuss other business for 2004; (3) Results from the Lake County Supervisor's Meeting; (4) Letters to Congress on retention of the RACs; (5) Discuss project cost accounting USFS/County of Lake; (6) Set next meeting date and (7) Public Comment period. The meeting is open to the public. Public input opportunity will be provided and individuals will have the opportunity to address the Committee at that time.

Dated: September 30, 2004.
Blaine P. Baker,
Designated Federal Officer.

[FR Doc. 04-22588 Filed 10-6-04; 8:45 am]

BILLING CODE 3410-11-M